DEPARTMENT OF ENERGY

Federal Energy Regulatory Commission

[Docket No. RP00-212-002]

NUI Corporation (City Gas Company of Florida Division) v. Florida Gas Transmission Company; Notice of Proposed Compliance Filing

August 18, 2000.

Take notice that on August 14, 2000, Florida Gas Transmission Company (“FGT”) tendered for filing to become part of its FERC Gas Tariff, Third Revised Volume No. 1 (“Tariff”) effective August 25, 2000, the following tariff sheets:

Substitute First Revised Sheet No. 186

Substitute Fifth Revised Sheet No. 187

FGT states that on March 8, 2000, NUI Corporation (City Gas Company of Florida Division) (NUI) filed a complaint contending that FGT violated applicable Commission policy, as well as FGT's tariff, by not permitting NUI to reduce its contract demand selectively by season in matching a bid submitted under FGT's Right-of-First-Refusal (“ROFR”) procedures. Subsequently, on July 14, 2000, the Commission issued an order in the referenced docket (“July 14 Order”) requiring FGT to clarify shippers' rights to uniformly reduce contract demand when exercising their ROFR rights. In compliance with the Commission's July 14 Order, on July 27, 2000, FGT filed tariff sheets (“July 27 Filing”) adding tariff language allowing shippers exercising ROFR rights to reduce contract demand by either a uniform percentage reduction for each season or by the same absolute volume amount in each season.

In response to FGT's filing, several shippers protested FGT's inclusion in proposed tariff language the phrase “that does not require its entire contract quantities to serve its core customers.” The protesting shippers stated that the phase was ambiguous, limited the rights of certain shippers to reduce their contract quantities and was beyond the scope of the Commission's Order. FGT states that it did not intend to limit the rights of shippers in the ROFR process in any way, but included this phrase as a result of the issues raised in the NUI complaint proceeding. However, after reviewing the protests, FGT states that it agrees that the language could be interpreted as limiting ROFR rights. In the instant filing, FGT states that it is refiling tariff language to comply with the Commission's July 14 Order, but without the language that has been interpreted as limiting shipper's rights of reduction in the ROFR process.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21598 Filed 8-23-00; 8:45 am]

BILLING CODE 6717-01-M